FEDERAL COMMUNICATIONS COMMISSION

47 CFR Part 54

[GN Docket No. 12-354; Report No. 3029]

Petitions for Reconsideration of Action in Rulemaking Proceeding

AGENCY: Federal Communications Commission.

ACTION: Petition for reconsideration.

SUMMARY: Petitions for Reconsideration (Petitions) have been filed in the Commission's Rulemaking proceeding by Bruce Oberlies, on behalf of Wireless Innovation Forum; Jon M. Peha on behalf of Jon M. Peha; Chuck Powers, on behalf of Motorola Solutions, Inc.; Brian M. Josef, on behalf of CTIA-THE WIRELESS ASSOCIATION; John T. Scott, III, on behalf of Verizon; Tom Stroup, on behalf of Satellite Industry Association; Rick Kaplan, on behalf of NATIONAL ASSOCIATION OF BROADCASTERS; and Brian Hendricks, on behalf of Nokia Networks (D/B/A Nokia Solutions and Network US LLC).

DATES: Oppositions to the Petitions must be filed on or before October 19, 2015. Replies to an opposition must be filed on or before October 13, 2015.

ADDRESSES: Federal Communications Commission, 445 12th Street SW., Washington, DC 20554.

FOR FURTHER INFORMATION CONTACT: Paul Powell, Wireless Telecommunications Bureau, (202) 418-1613, email: paul.powell@fcc.gov.

SUPPLEMENTARY INFORMATION: This is a summary of Commission's document, Report No. 3029, released September 22, 2015. The full text of the Petitions is available for viewing and copying in Room CY-B402, 445 12th Street SW., Washington, DC or may be accessed online via the Commission's Electronic Comment Filing System at http://apps.fcc.gov/ecfs/. The Commission will not send a copy of this Notice pursuant to the Congressional Review Act, 5 U.S.C. 801(a)(1)(A) because this notice does not have an impact on any rules of particular applicability.

Subject: Commercial Operations in the 3550-3650 MHz Band, published at 80 FR 36163, June 23, 2015, in GN Docket 12-354, and published pursuant to 47 CFR 1.429(e). See also § 1.4(b)(1) of the Commission's rules.

Number of Petitions Filed: 8.

Federal Communications Commission.
Marlene H. Dortch,
Secretary.

[FR Doc. 2015-25001 Filed 10-1-15; 8:45 am]

BILLING CODE 6712-01-P